DEPARTMENT OF COMMERCE

Foreign-Trade Zones Board

[Order No. 1800]

Reorganization and Expansion of Foreign-Trade Zone 141 Under Alternative Site Framework County of Monroe, NY

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09; 75 FR 71069-71070, 11/22/10) as an option for the establishment or reorganization of general-purpose zones;

Whereas, the County of Monroe, grantee of Foreign-Trade Zone 141, submitted an application to the Board (FTZ Docket 29-2011, filed 04/28/11) for authority to reorganize and expand under the ASF with a service area of Monroe County, New York, in and adjacent to the Rochester Customs and Border Protection port of entry; remove existing Sites 1, 3, 4, 6, 7, 8, 10 and 11; FTZ 141's Sites 2, 5 and 9 would be categorized as magnet sites; and, Site 12 would be categorized as a usage-driven site;

Whereas, notice inviting public comment was given in the Federal Register (76 FR 25301, 05/04/11) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize and expand FTZ 141 under the alternative site framework is approved, subject to the FTZ Act and the Board's regulations, including Section 400.28, to the Board's standard 2,000-acre activation limit for the overall general-purpose zone project, to a five-year ASF sunset provision for magnet sites that would terminate authority for Sites 2, 5 and 9 if not activated by November 30, 2016, and to a three-year ASF sunset provision for usage-driven sites that would terminate authority for Site 12 if no foreign-status merchandise is admitted for a bona fide customs purpose by November 30, 2014.

Signed at Washington, DC, this 28 day of November, 2011.
Paul Piquado,
Assistant Secretary of Commerce, for Import Administration, Alternate Chairman, Foreign-Trade Zones Board.
Andrew McGilvray,
Executive Secretary.

[FR Doc. 2011-31300 Filed 12-5-11; 8:45 am]

BILLING CODE P